DEPARTMENT OF JUSTICE

Notice of Lodging of Proposed Consent Decree Under the Clean Air Act

On July 27, 2021, the Department of Justice filed a Complaint and simultaneously lodged a Consent Decree with the United States District Court for the Central District of California in United States v. Advanced Flow Engineering, Inc., Civ. No. 5:21-cv-01249.

The proposed Consent Decree settles claims brought by the United States for violations of the Clean Air Act arising from Defendant's manufacture and sale of motor vehicle parts that bypass, defeat, and/or render inoperative the vehicle's installed emission controls, commonly known as “defeat devices.” See 42 U.S.C. 7522(a)(3)(B). The Consent Decree resolves these claims and prohibits Defendant from: (1) Manufacturing, selling or installing defeat devices; (2) providing technical support for defeat devices; (3) transferring intellectual property for defeat devices; and (4) owning any interest in any person or entity that manufacturers, sells, offers to sell, or installs defeat devices or earning income from the distribution or installation of defeat devices. It also requires Defendant to pay a civil penalty of $250,000, which was based on its financial condition.

The publication of this notice opens a period for public comment on the proposed Consent Decree. Comments should be addressed to the Assistant Attorney General, Environment and Natural Resources Division and should refer to United States v. Advanced Flow Engineering, Inc. D.J. Ref. No. 90-5-2-1-12079. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $17.25 (25 cents per page reproduction cost) payable to the United States Treasury.

Lori Jonas,
Assistant Section Chief, Environmental Enforcement Section, Environment and Natural Resources Division.

[FR Doc. 2021-16623 Filed 8-3-21; 8:45 am]

BILLING CODE 4410-15-P